FEDERAL COMMUNICATIONS COMMISSION

Notice of Public Information Collection(s) Being Reviewed by the Federal Communications Commission, Comments Requested

July 27, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before October 4, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control Number: 3060-0819.

Title: Lifeline Assistance (Lifeline) Connection Assistance (Link-Up) Reporting Worksheet and Instructions, 47 CFR 54.400-54.417.

Form No.: FCC Form 497.

Type of Review: Revision of a currently approved collection.

Respondents: Individuals or household; business or other for-profit.

Number of Respondents: 1,318,000.

Estimated Time per Response: .08-3.5 hours.

Frequency of Response: On occasion, monthly, and annually reporting requirements; third party disclosure requirement.

Total Annual Burden: 186,080 hours.

Total Annual Cost: N/A.

Privacy Act Impact Assessment: No impact(s).

Needs and Uses: Eligible Telecommunications carriers are permitted to receive universal service support reimbursement for offering certain services to qualifying low-income customers. The telecommunications carriers must file FCC Form 497 to solicit reimbursement. The administrator uses the data to provide settlements for the low-income programs as required by FCC rules, 47 CFR Section 54.400-54.417. The Commission has issued a Report and Order and Further Notice of Proposed Rulemaking, In the Matter of Lifeline and Link-up, WC Docket Number 03-109, FCC 04-87 that modifies the Commission's rules to improve the effectiveness of the low-income support mechanism. Among other steps taken, the Report and Order requires collection of certain information to certify and subsequently verify that the beneficiary of low-income support is indeed qualified to receive the support.

Federal Communications Commission.
Marlene H. Dortch,
Secretary.

[FR Doc. 04-17676 Filed 8-2-04; 8:45 am]

BILLING CODE 6712-01-P